FEDERAL DEPOSIT INSURANCE CORPORATION

[3064-NEW]

Agency Information Collection Activities: Proposed New Information Collection; Survey of the Costs of AML/CFT Compliance; Comment Request

AGENCY: Federal Deposit Insurance Corporation.

ACTION: Notice and request for comment.

SUMMARY: The Federal Deposit Insurance Corporation (FDIC), as part of its obligations under the Paperwork Reduction Act of 1995 (PRA), invites the general public and other Federal agencies to take this opportunity to comment on a proposed information collection, a Survey of the Costs of Anti-Money Laundering and Countering the Financing of Terrorism (AML/CFT) Compliance. The survey seeks to gather information on the direct compliance costs incurred by FDIC-supervised insured depository institutions and, to the extent these expenses overlap with those of other activities (such as fraud and credit card monitoring), the amount attributable to AML/CFT compliance. The FDIC is seeking a new OMB Control Number for this information collection. The FDIC expects to submit this information collection as a common form so that the other federal banking agencies and the National Credit Union Administration may use the information collection to survey the entirety of the banking and credit union industry.

DATES: Comments must be submitted on or before November 12, 2025.

ADDRESSES: Interested parties are invited to submit written comments to the FDIC by any of the following methods:

• Agency Website: https://www.fdic.gov/federal-register-publications.

• Email: comments@fdic.gov. Include the name and number of the collection in the subject line of the message.

• Mail: Robert Meiers, Attorney, MB-3013, Federal Deposit Insurance Corporation, 550 17th Street NW, Washington, DC 20429.

• Hand Delivery: Comments may be hand-delivered to the guard station at the rear of the 17th Street Building (located on F Street), on business days between 7 a.m. and 5 p.m.

All comments should refer to “Survey of the Costs of AML/CFT Compliance.” A copy of the comments may also be submitted to the OMB desk officer for the FDIC: Office of Information and Regulatory Affairs, Office of Management and Budget, New Executive Office Building, Washington, DC 20503.

FOR FURTHER INFORMATION CONTACT: Robert Meiers, Attorney, (571) 761-3062, romeiers@fdic.gov, MB-3013, Federal Deposit Insurance Corporation, 550 17th Street NW, Washington, DC 20429.

SUPPLEMENTARY INFORMATION: The FDIC is requesting OMB approval for the following collection of information:

Title: Cost of AML/CFT Compliance Survey.

OMB Number: 3064-NEW.

Frequency of Response: Once.

Affected Public: Insured State nonmember banks.

Estimated Annual Burden: The FDIC estimates a total burden for OMB No. 3064-NEW of 15,424 hours. The FDIC expects 1,928 respondents for the survey and expects each respondent will take 8 hours to complete the survey. This is a high estimate to account for the use of the survey instrument by other agencies with more complex respondents.

General Description of Collection: This information collection will seek information on Bank Secrecy Act (BSA)/CFT compliance costs and related topics via survey. The survey is voluntary. The purpose of the survey is to better understand the cost of AML/CFT compliance for FDIC-supervised insured depository institutions. The information gathered will help assess the cumulative impact of BSA/CFT regulations and may inform efforts to adjust regulatory obligations in accordance with safety and soundness principles and advance deregulatory proposals consistent with the executive orders of the Trump administration. The data may also support the development of deregulatory rulemakings or guidance to reduce compliance burden without compromising the effectiveness of current AML/CFT frameworks. Reponses will not be used for supervisory purposes.

Interested members of the public may view the proposed survey questionnaire on the following web page: https://www.fdic.gov/federal-register-publications/survey-costs-amlcft-compliance.

Request for Comment

Comments are invited on (a) whether the collection of information is necessary for the proper performance of the FDIC's functions, including whether the information has practical utility; (b) the accuracy of the estimates of the burden of the information collections, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on September 9, 2025.
Jennifer M. Jones,
Deputy Executive Secretary.

[FR Doc. 2025-17593 Filed 9-11-25; 8:45 am]

BILLING CODE 6714-01-P